Title 3—

The President

Memorandum of May 25, 2006

Assignment of Certain Functions Relating to the Global War on Terror

Memorandum for the Secretary of State [and] the Director of the Office of Management and Budget

By the authority vested in me as President by the Constitution and laws of the United States, including section 301 of title 3, United States Code, the functions of the President under the heading “Peacekeeping Operations” in chapter 2 of title II in Division A of the Emergency Supplemental Appropriations Act for Defense, the Global War on Terror, and Tsunami Relief, 2005 (Public Law 109-13) are assigned to the Secretary of State. The Secretary should consult the Director of the Office of Management and Budget as appropriate in the performance of such functions.

The Secretary of State is authorized and directed to publish this memorandum in the Federal Register.

B

THE WHITE HOUSE,

Washington, May 25, 2006.

[FR Doc. 06-5714

Filed 6-23-06; 8:45 am]

Billing code 4710-10-P